DEPARTMENT OF JUSTICE

Notice of Lodging of Proposed Consent Decree Under the Comprehensive Environmental Response, Compensation, and Liability Act (“CERCLA”)

On August 17, 2018, the Department of Justice lodged a proposed consent decree with the United States District Court for the District of Maryland in the lawsuit entitled United States of America v. Honeywell International, Inc., and Mack Trucks, Inc., Civil Action No. 1:18-cv-02528.

The United States seeks reimbursement of response costs incurred under Section 107(a) of the Comprehensive Environmental Response, Compensation, and Liability Act (“CERCLA”) for response actions at or in connection with the release or threatened release of hazardous substances at the Elkton Farm Firehole Site in Elkton, Maryland (the “Site”). The United States also seeks a declaration of Settling Defendants' Honeywell International, Inc., and Mack Trucks, Inc. liability, pursuant to Section 113(g) of CERCLA for all future response costs to be incurred by the United States in connection with the Site.

The proposed consent decree requires Settling Defendants to pay $5,500,000 and Settling Federal Agencies, the United States, on behalf of the Army, Navy and Department of Defense, to pay $6,250,000 for past response costs, respectively. The proposed consent decree will resolve all CERCLA claims alleged in this action by the United States against Settling Defendants and any potential liability within the meaning of Section 113(f)(2) of CERCLA, 42 U.S.C. 9613(f)(2), for Settling Federal Agencies.

The publication of this notice opens a period for public comment on the proposed consent decree. Comments should be addressed to the Assistant Attorney General, Environment and Natural Resources Division, Environmental Enforcement Section, and should refer to United States v. Honeywell International, Inc., and Mack Trucks, Inc., D.J. Ref. No. 90-11-3-08918/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library U.S. DOJ—ENRD P.O. Box 7611 Washington, DC 20044-7611.

Please enclose a check or money order for $6.25 (25 cents per page reproduction cost) payable to the United States Treasury.

Robert Brook,
Assistant Section Chief, Environmental Enforcement Section, Environment and Natural Resources Division.

[FR Doc. 2018-18818 Filed 8-29-18; 8:45 am]

BILLING CODE 4410-15-P